EQUAL EMPLOYMENT OPPORTUNITY COMMISSION

Sunshine Act Meeting

Agency Holding The Meeting: Equal Employment Opportunity Commission.

Date and Time: Thursday, April 22, 2004, 10 a.m. eastern time.

Place: Clarence M. Mitchell, Jr. Conference Room on the Ninth Floor of the EEOC Office Building, 1801 “L” Street, NW., Washington, DC 20507.

Status: The meeting will be open to the public.

Matters To Be Considered:

Open Session

1. Announcement of Notation Votes, and

2. Submission for Interagency Coordination under Executive Order 12067 of Proposed Final Rule Exempting the Coordination of Employer-Sponsored Retiree Health Benefits with Medicare Eligibility from the ADEA.

Note: In accordance with the Sunshine Act, this meeting will be open to public observation of the Commission's deliberations and voting. (In addition to publishing notices on EEOC Commission meetings in the Federal Register, the Commission also provides a recorded announcement a full week in advance on future Commission sessions.)

Please telephone (202) 663-7100 (voice) and (202) 663-4074 (TTD) at any time for information and meetings.

FOR FURTHER INFORMATION CONTACT: Stephen Llewellyn, Acting Executive Officer on (202) 663-4070.

Dated: April 12, 2004.
Stephen Llewellyn,
Acting Executive Officer Executive Secretariat.

[FR Doc. 04-8610 Filed 4-12-04; 3:08 pm]

BILLING CODE 6750-06-M